DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species Tournament Registration and Reporting.

OMB Control Number: 0648-0323.

Form Number(s): None.

Type of Request: Regular submission.

Burden Hours: 110.

Number of Respondents: 300.

Average Hours Per Response: Registration, 2 minutes; reporting, 20 minutes.

Needs and Uses: Under the authorization of the Magnuson-Stevens Fishery Conservation and Management Act and the Atlantic Tunas Convention Act, the National Marine Fisheries Service (NMFS) requires that operators of fishing tournaments involving Atlantic Highly Migratory Species (HMS) provide advance identification of the tournament (registration) and then, for selected tournaments, provide summary information after the tournament is completed (reporting) on the HMS caught, whether they were kept or released, the length and weight of the fish, and other information. Most of the data required for post-tournament reporting is already collected in the routine course of tournament operations. The data collected is needed by NMFS to estimate the total annual catch of these species, to evaluate the impact of tournament fishing in relation to other types of fishing, and to evaluate the impact of HMS management measures on tournament operations.

Affected Public: Business or other for-profit organizations; not for-profit institutions.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 8, 2009.
Gwellnar Banks,
Management Analyst, Office of the Chief Information Officer.

[FR Doc. E9-13763 Filed 6-11-09; 8:45 am]

BILLING CODE 3510-22-P